DEPARTMENT OF ENERGY

Federal Energy Regulatory Commission

[Project No. 7320-042]

Erie Boulevard Hydropower, L.P.; Notice of Availability of Environmental Assessment

In accordance with the National Environmental Policy Act of 1969 and the Federal Energy Regulatory Commission's regulations, 18 CFR part 380 (Order No. 486, 52 FR 47897), the Office of Energy Projects has reviewed the application for a new license for the existing 3.35-megawatt (MW) Chasm Hydroelectric Project, located on the Salmon River, near the Town of Malone, in Franklin County, New York. Commission staff prepared an Environmental Assessment (EA) which analyzes the potential environmental effects of the project and concludes that issuing a new license for the project, with appropriate environmental measures, would not constitute a major federal action significantly affecting the quality of the human environment.

A copy of the EA is on file with the Commission and is available for public inspection. The EA may also be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via email of new filings and issuances related to this or other pending projects. For assistance, contact FERC Online Support.

FOR FURTHER INFORMATION CONTACT: John Mudre at (202) 502-8902.

Dated: July 30, 2015.
Kimberly D. Bose,
Secretary.

[FR Doc. 2015-19208 Filed 8-4-15; 8:45 am]

BILLING CODE 6717-01-P